DEPARTMENT OF DEFENSE

Department of the Navy

Notice of Extension of Public Scoping Period for the Revised Notice of Intent To Prepare an Environmental Impact Statement for Military Training Activities at the Naval Weapons Systems Training Facility, Boardman, OR

AGENCY: Department of the Navy, DoD.

ACTION: Notice.

SUMMARY: Pursuant to section 102(2)(C) of the National Environmental Policy Act (NEPA) of 1969, as implemented by the Council on Environmental Quality Regulations (40 CFR parts 1500-1508), the Department of the Navy (DoN) published a revised notice of intent to prepare an Environmental Impact Statement (EIS) for the Naval Weapons Systems Training Facility (NWSTF), Oregon in the Federal Register on December 27, 2011 (76 FR 80910). This notice announces a 32-day extension of the public scoping comment period to end on February 27, 2012.

FOR FURTHER INFORMATION CONTACT: Mrs. Amy Burt, Naval Facilities Engineering Command Northwest, 1101 Tautog Circle, Suite 203, Silverdale, WA 98315-1101, Attn: NWSTF Boardman Project Manager; or http://www.NWSTFBoardmanEIS.com.

SUPPLEMENTARY INFORMATION: The public scoping period on the NWSTF Boardman EIS will be extended by 32 days, from January 27, 2012 to February 27, 2012. Comments on the scope of the EIS may be submitted in writing or electronically. Written comments should be mailed to Naval Facilities Engineering Command Northwest, Attention: Mrs. Amy Burt, NWSTF Boardman EIS Project Manager, Naval Facilities Engineering Command Northwest, 1101 Tautog Circle, Suite 203, Silverdale, WA 98315-1101. All written comments must be postmarked by February 27, 2012, to ensure they become part of the official record. Comments submitted electronically at the project Web site at http://www.NWSTFBoardmanEIS.com must be submitted before the end of the comment period to ensure they become part of the official record. All scoping comments will be taken into account in the Draft EIS.

Dated: January 25, 2012.
J.M. Beal,
Lieutenant Commander, Judge Advocate General's Corps, U.S. Navy, Federal Register Liaison Officer.

[FR Doc. 2012-2304 Filed 2-1-12; 8:45 am]

BILLING CODE 3810-FF-P